DEPARTMENT OF COMMERCE

National Telecommunications and Information Administration

Online Safety and Technology Working Group

AGENCY: National Telecommunications and Information Administration

ACTION: Notice

SUMMARY: The National Telecommunications and Information Administration (NTIA) is clarifying a notice published in the Federal Register on November 21, 2008 seeking nominations of individuals to represent the business community, public interest groups, and other appropriate groups interested in serving on the NTIA Online Safety and Technology Working Group (OSTWG). The 30 member limit applies only to private sector members of the OSTWG. The OSTWG membership will also include a certain number of Federal Government representatives as required by the Act. This notice does not reopen nominations for the OSTWG.

FOR FURTHER INFORMATION CONTACT: Tim Sloan, Office of Policy Analysis and Development, at (202) 482-1899 or tsloan@ntia.doc.gov.

SUPPLEMENTARY INFORMATION: On October 10, 2008, the “Protecting Children in the 21st Century Act” (the Act) was enacted.¹ Section 214 of the Act directs NTIA to establish the OSTWG to be comprised of “representatives of relevant sectors of the business community, public interest groups, and other appropriate groups and Federal agencies.” On November 21, 2008, NTIA published a notice seeking nominations in accordance with the Act.² In that notice, NTIA announced that the OSTWG would have up to 30 members. With this notice, NTIA clarifies that this 30 member limit applies only to representatives from the relevant sectors of the business community, public interest groups and other appropriate groups as defined by the Act and the notice.

The Act also requires that NTIA invite representatives from relevant Federal Government agencies to serve on the OSTWG. NTIA is working with these agencies to identify appropriate representatives. The Assistant Secretary for Communications and Information will determine the number of Federal Government reprentatives that will serve on the OSTWG. The number of Federal Government representatives will be in addition to the 30 appointed from the private sector.

¹ Pub. L. No. 110-385, 122 Stat. 4096 (to be codified at 15 U.S.C § 6554).

² Call for Nominations, Online Safety and Technology Working Group, 73 Fed. Reg. 226 (Nov. 21, 2008), available at http://www.ntia.doc.gov/frnotices/2008/FR_OnlineSafety_081121.pdf.

This notice does not reopen nominations for the working group. Applications for nominations were due on or before December 12, 2008.

Dated: February 19, 2009.
Kathy D. Smith,
Chief Counsel, National Telecommunications and Information Administration.

[FR Doc. E9-3915 Filed 2-23-09; 8:45 am]

BILLING CODE 3510-60-S